NATIONAL AERONAUTICS AND SPACE ADMINISTRATION

14 CFR Part 1260

RIN 2700-AC74

NASA Grant and Cooperative Agreement Handbook—Investigative Requirements

AGENCY: National Aeronautics and Space Administration.

ACTION: Final rule.

SUMMARY: This final rule amends the Grant and Cooperative Agreement Handbook by revising the “Investigative Requirements” provision to require recipients of grants and cooperative agreements to ensure that individuals needing access to a NASA Center, facility, or computer system, or to NASA technical information, provide the personal background and biographical information requested by NASA.

EFFECTIVE DATE: January 23, 2004.

FOR FURTHER INFORMATION CONTACT: Paul Brundage, NASA Headquarters, Code HK, Washington, DC, (202) 358-0481, e-mail: paul.d.brundage@nasa.gov.

SUPPLEMENTARY INFORMATION:

A. Background

NASA sometimes, albeit infrequently, requires information for investigations of individuals working on grants and cooperative agreements in order to determine whether to permit, deny, or restrict access to a NASA Center, facility, or computer system, or to NASA technical information. The provision at 1260.35, Investigative Requirements, is inserted in all grants and cooperative agreements to ensure recipients provide the information requested by NASA for any required investigation. This change is needed because recipients of grants and cooperative agreements, especially educational institutions, often do not maintain or have access to the types of information required by the provision at 1260.35 about their staff, faculty, and students because of policy and legal restrictions. Instead of requiring the recipient to obtain and submit personal information, this final rule makes it clear that the individuals needing access may provide the requisite information directly to NASA. This final rule also clarifies that access is to NASA Centers, facilities, computer systems, and NASA technical information.

NASA published a proposed rule in the Federal Register at 68 FR 48838 on August 15, 2003. One public comment was received. The commenter suggested that the provision clarify the procedure to be followed in the event that required access is denied or delayed. This commenter proposed that the following sentences be added: “Should Recipient personnel who require such access for this project be denied required access or required approvals are not provided in a timely manner, NASA and Recipient shall discuss alternatives for the conduct of the work in a manner that would eliminate the need for individual access to the NASA site. If a satisfactory resolution is not achieved, this Agreement may be terminated in accordance with termination clause in A-110.”

NASA has considered the comment and takes the opinion that it is not necessary to amend the Investigative Requirements provision, as requested, because the termination provisions of the NASA Grant and Cooperative Agreement Handbook already address the procedures to be followed in the event that required access is denied or delayed.

This final rule makes an editorial change to the proposed rule by changing “will” to “may” in the last sentence of paragraph (a) of the Investigative Requirements provision.

B. Regulatory Flexibility Act

NASA certifies that this final rule will not have a significant economic impact on a substantial number of small entities within the meaning of the Regulatory Flexibility Act, 5 U.S.C. 601 et seq., because the changes will affect an insignificant number of grants and cooperative agreements.

C. Paperwork Reduction Act

The Paperwork Reduction Act does not apply because this final rule does not impose any new recordkeeping or information collection requirements, or collection of information from offerors, contractors, or members of the public that require the approval of the Office of Management and Budget under 44 U.S.C. 3501, et seq.

List of Subjects in CFR Part 1260

Grant Programs—Science and Technology.

Tom Luedtke,
Assistant Administrator for Procurement.

Accordingly, 14 CFR part 1260 is amended as follows:

1. The authority citation for 14 CFR 1260 continues to read as follows:

Authority: 42 U.S.C. 2473(c)(1), Pub. L. 97-258, and 96 Stat. 1003 (31 U.S.C. § 6301, et seq.).

PART 1260—GRANTS AND COOPERATIVE AGREEMENT

2. Section 1260.35 is revised to read as follows:

§ 1260.35 Investigative Requirements.

INVESTIGATIVE REQUIREMENTS

January 2004

(a) NASA reserves the right to perform security checks and to deny or restrict access to a NASA Center, facility, or computer system, or to NASA technical information, as NASA deems appropriate. To the extent the Recipient needs such access for performance of the work, the Recipient shall ensure that individuals needing such access provide the personal background and biographical information requested by NASA. Individuals failing to provide the requested information may be denied such access.

(b) All requests to visit a NASA Center or facility must be submitted in a timely manner in accordance with instructions provided by that Center or facility.

[End of provision]

[FR Doc. 04-1210 Filed 1-22-04; 8:45 am]

BILLING CODE 7510-01-P